OFFICE OF PERSONNEL MANAGEMENT

Submission for Review: Revision and Consolidation of Two Existing Information Collections Related to Health Benefits Election Forms

AGENCY: Office of Personnel Management.

ACTION: 30-Day notice and request for comments.

SUMMARY: The Office of Personnel Management (OPM) offers the general public and other Federal agencies the opportunity to comment on a revised information collection request (ICR) for two forms: SF 2809 Health Benefits Election Form and OPM 2809 Health Benefits Election Form.

DATES: Comments are encouraged and will be accepted until October 24, 2024. This process is conducted in accordance with 5 CFR 1320.1.

ADDRESSES: Written comments and recommendations for the proposed information collection should be sent within 30 days of publication of this notice to https://www.reginfo.gov/public/do/PRAMain. Find this particular information collection request by selecting “Office of Personnel Management” under “Currently Under Review,” then check “Only Show ICR for Public Comment” checkbox.

FOR FURTHER INFORMATION CONTACT: For specific questions related to these information collection activities, please contact: Retirement Services Publications Team, Office of Personnel Management, 1900 E Street NW, Room 3316-L, Washington, DC 20415, Attention: Cyrus S. Benson, or sent via electronic mail to RSPublicationsTeam@opm.gov or faxed to (202) 606-0910 or via telephone at (202) 936-0401.

SUPPLEMENTARY INFORMATION: The Office of Personnel Management, in accordance with the Paperwork Reduction Act of 1995 (PRA) (44 U.S.C. 3506(c)(2)(A)), provides the public with an opportunity to comment on proposed, revised, and continuing collections of information. This helps OPM assess the impact of its information collection requirements and minimize the public's reporting burden. It also helps the public understand OPM's information collection requirements and provide the requested data in the desired format. On May 5, 2024, OPM published notice of its intent to combine OMB Control Nos. 3206-0160 and 3206-0141 into a single, updated collection in the Federal Register at 89 FR 37269.

The SF 2809 and the OPM 2809 forms are generally very similar in terms of the information collected, with only a few different data points to reflect differences between an employee and an annuitant. Nonetheless, the forms were historically managed under two different information collections. OPM is not currently planning to consolidate the forms into a single form because the instructions for annuitants are different than the instructions for an employee. OPM expects that retaining separate forms helps annuitants better understand what information is required.

OPM anticipates that both forms will generally require revisions at the same time and that comments relevant to one form will generally apply equally to the other form. Therefore, because the forms serve the same purpose (for two different populations) and collect virtually identical information, OPM is proposing to combine the two information collections and to manage the two forms under a single information collection, OMB Control No. 3206-0160, going forward.

As part of this process, the forms have been updated to improve clarity and ease of use. OPM consulted with Agency Benefit Officers, Federal benefit electronic enrollment systems, FEHB insurance carriers and conducted several employee focus groups to determine proposed changes. Some changes to instructions for the SF 2809 form have not been made to the OPM 2809 form to accommodate a larger use of paper forms by the annuitant population.

OPM received fourteen comments in response to its 60-day notice, including six unique comments and one comment representing eight submissions. We have made additional edits to the SF 2809 form based on these comments. Specifically, the form will now allow a respondent to list addresses for minor children who live at a different location than the enrollee; the form will provide an option to remove a family member; and the form will also include a date field for the Initial Opportunity to Enroll. The SF 2809 form also makes a technical correction by noting that a common law spouse is eligible only if the marriage was initiated in a “state, the District of Columbia, or other jurisdiction” (instead of just “state”) that recognizes such marriages; this technical correction is necessary to account for common law marriages in the District of Columbia.

We declined several comments. Specifically, we declined comments about formatting of the paper form because most enrollees will use electronic systems to enroll. There were comments about the electronic Official Personnel Folder (eOPF) that were beyond the scope of this information collection request.

One commenter questioned the use of drop-down menus in some areas of the application. Drop-down menus are not functional for manually printed forms. We are declining to remove these because they are intended for use when completing an electronic fillable, printable form, and are only used for short, direct answers. Drop-down choices are listed in the instructions of the form so employees using a printed version will have them available.

There were also comments related to adding a checkbox or fillable section for family member eligibility documents and a reminder that, without required documents, family members are not enrolled. We are declining these suggestions because we wish to limit freeform text and believe this information is available in many other places related to enrollment including the form instructions, FEHB Handbook, and OPM brochures.

A commenter noted that the requirement to enter Event Codes 1A and 1B have been removed, noting that processing may need these codes which represent Initial Opportunity to Enroll and Open Season. We are declining to implement this suggestion because these codes relating to the Initial Opportunity to Enroll (1A) and Open Season (1B) are among the most popular codes and we want to make it relatively easy for users to check the box rather than find an event code. Moreover, agencies should have these event codes programmed in their automated enrollment systems.

Finally, as part of the establishment of the new Postal Service Health Benefits (PSHB) Program, a separate Program with the FEHB Program, OPM will be offering the use of a new online enrollment system. The information collected using the system will be identical to the paper and electronic PDF versions of the SF 2809 and OPM 2809 forms; however, users will be able to enter the information using a series of prompts that provide additional instructions and guidance.

The information collection for form SF 2809 (OMB Control number 3206-0160) is currently approved with an estimated public burden of 9,000 hours for 18,000 responses. The information collection for form OPM 2809 (OMB Control number 3206-0141) is currently approved with an estimated public burden of 11,667 hours for 30,000 responses. As OPM is proposing to combine these information collections, the collective estimated public burden for both forms for the revised information collection is 20,667 hours for 48,000 responses.

The purpose of this notice is to notify the public that OPM is submitting the information collection to the Office of Management and Budget (OMB) for review and to allow an additional 30 days for public comments. OPM is soliciting comments on the proposed information collection request (ICR) that is described below. OMB is especially interested in public comment addressing the following issues: (1) whether this collection is necessary to the proper functions of OPM; (2) whether this information will be processed and used in a timely manner; (3) the accuracy of the burden estimates; (4) ways in which OPM might enhance the quality, utility, and clarity of the information to be collected; and (5) ways in which OPM might minimize the burden of this collection on the respondents, including through the use of information technology. Written comments received in response to this notice will be considered public records.

Analysis

Agency: Office of Personnel Management.

Title: Health Benefits Election Forms.

OMB Number: 3206-0160.

Frequency: Annually.

Affected Public: Eligible individuals who wish to enroll in FEHB (including the new, separate Postal Service Health Benefits Program) for the first time or to change an existing enrollment.

Number of Respondents: 48,000 [SF 2809—18,000; OPM 2809—30,000 (20,000—written & 10,000 verbal)].

Estimated Time per Respondent: SF 2809 [30 minutes]; OPM 2809 [30 minutes (written) & 10 minutes (verbal)].

Total Burden Hours: 20,667 [SF 2809—9,000; OPM 2809—11,667 (written—10,000 & verbal—1,667)].

Office of Personnel Management.
Alexys Stanley,
Federal Register Liaison.

[FR Doc. 2024-21803 Filed 9-23-24; 8:45 am]

BILLING CODE 6325-38-P